OFFICE OF SPECIAL COUNSEL

Proposed Information Collection Activities; Request for Comment

AGENCY: Office of Special Counsel.

ACTION: Notice.

SUMMARY: The U.S. Office of Special Counsel (OSC), in accordance with the Paperwork Reduction Act of 1995 (44 U.S.C. chapter 35) and implementing regulations at 5 CFR Part 1320, plans to request approval from the Office of Management and Budget (OMB) for use of two previously approved information collections: (1) Form OSC-11, Complaint of Possible Prohibited Personnel Practice or Other Prohibited Activity; and (2) Form OSC-12, Disclosure of Information. The forms to be submitted to OMB contain some modifications to the existing forms, including the addition of information about OSC jurisdiction. These collections of information are described in OSC regulations at 5 CFR 1800.1 and 1800.2. The current OMB approval for these collections of information expires on August 31, 2000.

Current and former Federal employees, employee representatives, other Federal agencies, and the general public are invited to comment on these information collections. Comments are invited on: (a) Whether the proposed collections of information are necessary for the proper performance of OSC's functions, including whether the information will have practical utility; (b) the accuracy of OSC's estimate of the burden of the proposed collections of information; (c) ways to enhance the quality, utility, and clarity of the information to be collected; and (d) ways to minimize the burden of the collection of information on respondents, including through the use of automated collection techniques or other forms of information technology.

DATES: Comments should be received on or before June 16, 2000.

ADDRESSES: Kathryn Stackhouse, Attorney, Planning and Advice Division, U.S. Office of Special Counsel, 1730 M Street, NW, Suite 300, Washington, DC 20036-4505.

FOR FURTHER INFORMATION CONTACT: Kathryn Stackhouse, Attorney, Planning and Advice Division, at the address shown above; by telephone at (202) 653-8971; or by facsimile at (202) 653-5151. The collections of information to be submitted to OMB will be available for review on OSC's Web site (at www.osc.gov) as of the date of this notice.

SUPPLEMENTARY INFORMATION: Comment is requested on the following two collections of information:

1. Title of Collection: Complaint of Possible Prohibited Personnel or Other Prohibited Activity (Agency Form Number: OSC-11; OMB Control Number 3255-0002).

Type of Information Collection: Approval of a previously approved collection of information that expires on August 31, 2000. The proposed information collection format includes changes as follows: (1) Style, format, and other minor revisions that do not appear to impose significant new burdens, such as requests for fax numbers, e-mail addresses, and details of certain allegations in a different format; (2) addition of explanatory information about OSC jurisdiction, elements required to prove some claims, and certain procedural rights; and (3) description of new and revised Privacy Act routine uses published after the prior OMB approval.

Affected public: Current and former Federal employees, applicants for Federal employment, and their representatives.

Respondent's Obligation: Voluntary.

Estimated Annual Number of Respondents: 1802.

Frequency: On occasion.

Estimated Average Burden Per Respondent: 1.25 hours. This estimated burden has changed from the previous estimate of one hour, due primarily to the addition of the explanatory information described above, under “Type of Information Collection.”

Estimated Annual Burden: 2252.5 hours.

Abstract: This optional complaint form, or the format provided in 5 CFR 1800.1, is for use by current and former Federal employees and applicants for Federal employment to submit allegations of possible prohibited personnel practices or other prohibited activity for investigation and possible prosecution by OSC. In addition to a hard copy format, the form will be posted on OSC's Web site so that complainants can fill in the form online, and then print the completed form for signature and transmittal to OSC by mail or fax.

2. Title of Collection: Disclosure of Information (Agency Form Number: OSC-12; OMB Control Number 3255-0002).

Type of Information Collection: Approval of a previously approved collection of information that expires on August 31, 2000. The proposed information collection format includes changes as follows: (1) Style, format, and other minor revisions that do not appear to impose significant new burdens, such as requests for fax numbers, e-mail addresses, name of any legal or other representative, and classification of the type of disclosure; (2) addition of certification language before the signature of the submitter; (3) addition of explanatory information about OSC jurisdiction, processing criteria, and procedures; and (4) description of new and revised Privacy Act routine uses published after the prior OMB approval.

Affected public: Current and former Federal employees, applicants for Federal employment, and their representatives.

Respondent's Obligation: Voluntary.

Estimated Annual Number of Respondents: 388.

Frequency: On occasion.

Estimated Average Burden Per Respondent: 1 hour.

Estimated Annual Burden: 388 hours.

Abstract: This optional whistleblower disclosure form, and the format provided in 5 CFR 1800.2, are for use by current and former Federal employees and applicants for Federal employment to disclose (for OSC review and possible referral to the agency involved) a violation of any law, rule, or regulation, gross mismanagement, a gross waste of funds, an abuse of authority, or a substantial and specific danger to public health or safety. In addition to a hard copy format, the form will be posted on OSC's Web site so that complainants can fill in the form online, and then print the completed form for signature and transmittal to OSC by mail or fax.

Erin M. McDonnell,
Associate Special Counsel for Planning and Advice.

[FR Doc. 00-9448 Filed 4-14-00; 8:45 am]

BILLING CODE 7405-01-U